DEPARTMENT OF AGRICULTURE

Forest Service

Medicine Bow-Routt National Forests and Thunder Basin National Grassland; Wyoming; Thunder Basin National Grassland Land and Resource Management Plan Amendment for Prairie Dog Management

AGENCY: Forest Service, USDA.

ACTION: Notice of intent to prepare an environmental impact statement.

SUMMARY: The Forest Service proposes to develop a project-level and site-specific implementation strategy to manage prairie dogs using the full suite of management tools to maintain viable populations to support black-footed ferret introduction and populations of other associated species while reducing unwanted colonization of adjoining lands along national grassland boundaries; and to amend the Thunder Basin National Grassland Land and Resource Management Plan (LRMP) as needed to support the site-specific implementation plan and to modify the boundary of the black-footed ferret reintroduction area. The ferret area modification is proposed to provide a more logical boundary based on topographical and biological barriers for prairie dog colonies and to include lands recently acquired through lan exchange.

DATES: Comments concerning the scope of the analysis must be received by April 12, 2007. The draft environmental impact statement is expected May 31, 2007 and the final environmental impact statement is expected September 30, 2007.

ADDRESSES: Send written comments to Marilee Houtler, NEPA Coordinator, Douglas Ranger District, 2250 East Richards Street, Douglas, Wyoming 82633 to e-mail to comments-rocky-mountain-medicine-bow-routt-douglas-thunder-basin@fs.fed.us All comments, including names and addresses when provided, are placed in the record and are available for public inspection and copying. The public may inspect comments received at Douglas Ranger District, 2250 E. Richards, Douglas, WY 82633. Visitors are encouraged to call ahead to (307) 358-4690 to facilitate entry into the building.

FOR FURTHER INFORMATION CONTACT: Cristi Lockman, Wildlife Biologist or Misty Hays, Deputy District Ranger, Douglas Ranger District, 2250 East Richards St., Douglas, WY 82633 (307) 358-4690.

Individuals who use telecommunication devices for the deaf (TDD) may call the Federal Information Relay Service (FIRS) at 1-800-877-8339 between 8 a.m. and 8 p.m., eastern standard time, Monday through Friday.

SUPPLEMENTARY INFORMATION: Since the 1960's, the Forest Service has been challenged to balance our duty to conserve prairie dog habitat and manage the impacts from prairie dogs on public lands and neighboring private lands. Prairie dog management on the Thunder Basin National Grassland fluctuated through the 1960's, 1970's and 1980's from periods of active use of rodenticide, management to maintain prairie dog populations and no rodenticide use. However, with the petition for listing the prairie dog in 1998, rodenticide use was prohibited by Forest Service policy from 1999 until 2004 when the US Fish and Wildlife Service issued its decision to remove the prairie dog from its candidate list. In 2001 the LRMP was completed with the 2002 Record of Decision (ROD). The LRMP continued to limit use of prairie dog rodenticide to situations involving public health and safety risks and damage to facilities. In 2002, as the Thunder Basin National Grassland LRMP was being completed a plague epizootic impacted prairie dog colonies on the Thunder Basin National Grassland in April and May 2002 reducing populations from an estimated 21,000 acres of inventoried active colonies in 2001 to about 3,300 acres of inventoried active colonies in 2002. Since 2002, active colonies have been recovering from the plague event from 29-69% annually. In 2004, as part of the appeal decisions on LRMP, USDA Deputy Under Secretary, David Tenny, issued instructions directing the Thunder Basin National Grassland to ensure that local land managers work together with state and county officials and local landowners to aggressively implement the spirit and intent of the good neighbor policy.

Purpose and Need for Action

The Forest Service has identified a need to implement the management objectives in the LRMP for management of prairie dogs and prairie dog habitat for black-footed ferrets and other associated species and implement the direction by Deputy Under Secretary Tenny to be a good neighbor in relation to prairie dog management using all the tools available to provide for healthy populations of prairie dog while preventing unwanted colonization onto adjacent and intermingled private lands.

The purpose of this action is to provide a full set of tools available for prairie dog management and identify sideboards on how and when tools might be used and to change the boundaries of Management Area 3.63 Black-footed Ferret Reintroduction Habitat to better match prairie dog complexes on the ground.

Proposed Action

The Forest Service proposes to develop a project-level and site-specific implementation strategy to manage prairie dogs using the full suite of management tools to maintain viable populations to support black-footed ferret reintroduction and populations of other associated species while reducing unwanted colonization of prairie dogs on adjoining lands along national grassland boundaries. The Forest Service also proposes to amend the LRMP as needed to support the site-specific implementation plan and to modify the boundary of the black-footed ferret reintroduction area. The ferret reintroduction area modification is proposed to provide a more logical boundary based on topographical and biological barriers for prairie dog colonies and to include lands recently acquired through land exchange. All standards and guidelines as currently prescribed in the LRMP for Black Footed Ferret Reintroduction Habitat will apply to the modified area. Methods for implementing the proposed actions include a suite of non-lethal and lethal management tools such as: Rodenticide, limited shooting, landownership adjustment, third-party solutions, financial incentives, conservation agreements, conservation easements, live-trapping, reduced livestock grazing to create visual barriers, and physical barriers.

Responsible Official

Mary H. Peterson, Forest Supervisor, Medicine Bow-Routt National Forests and Thunder Basin National Grassland, 2468 Jackson Street, Laramie, Wyoming 82070 is the official responsible for making the decision on this action. She will document her decision and rationale in a Record of Decision.

Nature of Decision To Be Made

The Responsible Official will consider the results of the analysis and it's findings and then document the final decision in a Record of Decision (ROD). The decision will include a determination whether or not to amend the LRMP to support the prairie dog management strategy and adjust the boundaries of the Black Footed Ferret Reintroduction Management Area.

Scoping Process

Concurrent with this NOI, letters requesting comments will be sent to interested parties. Anyone who provides comments to the DEIS or expresses interest during the comment period will have eligibility.

Preliminary Issues

The Forest Service has identified the following preliminary issues: (1) Potential impacts to the Black-Footed Ferret, an Endangered species; (2) Potential impacts tot he black-tailed prairie dog, a Forest Service Region 2 Sensitive Species and other associated sensitive species; (3) Potential impacts to adjacent private lands; (4) Potential impacts to livestock grazing permits on National Grassland.

Comment Requested

This notice of intent initiates the scoping process which guides the development of the environmental impact statement.

Early Notice of Importance of Public Participation in Subsequent Environmental Review

A draft environmental impact statement will be prepared for comment. The comment period on the draft environmental impact statement will be 45 days from the date the environmental Protection Agency publishes the notice of availability in the Federal Register.

The Forest Service believes it is important to give reviewers notice of several court rulings related to public participation in the environmental review process. First, reviewers of draft environmental impact statements must structure their participation in the environmental review of the proposal so that it is meaningful and alerts an agency to the reviewer's position and contentions, Vermont Yankee Nuclear Power Corp. v. NRDC, 435 519, 553 (1978). Also, environmental objections that could be raised at the draft environmental impact statement stage but that are not raised until after completion of the final environmental impact statement may be waived or dismissed by the courts City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement. To assist the Forest Service in identifying and considering issues and concerns on the proposed action, comments on the draft environmental impact statement should be as specific as possible. It is also helpful if comments refer to specific pages or chapter of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21.)

Dated: March 2, 2007.
Misty A. Hays,
Deputy District Ranger.

[FR Doc. 07-1157 Filed 3-12-07; 8:45 am]

BILLING CODE 3410-11-M